DEPARTMENT OF COMMERCE

International Trade Administration

[A-822-804, A-570-860, A-560-811, A-449-804, A-841-804, A-455-803 and A-823-809]

Steel Concrete Reinforcing Bars From Belarus, the People's Republic of China, Indonesia, Latvia, Moldova, Poland, and Ukraine: Final Results of the Expedited Fourth Sunset Review of the Antidumping Duty Orders

AGENCY: Enforcement and Compliance, International Trade Administration, Department of Commerce.

SUMMARY: The U.S. Department of Commerce (Commerce) finds that revocation of the antidumping duty orders on steel concrete reinforcing bars (rebar) from Belarus, the People's Republic of China (China), Indonesia, Latvia, Moldova, Poland, and Ukraine would be likely to lead to continuation or recurrence of dumping at the levels indicated in the “Final Results of Sunset Reviews” section of this notice.

DATES: Applicable March 7, 2024.

FOR FURTHER INFORMATION CONTACT: Jinny Ahn or Peter Farrell, AD/CVD Operations, Office VI, Enforcement and Compliance, International Trade Administration, U.S. Department of Commerce, 1401 Constitution Avenue NW, Washington, DC 20230; telephone: (202) 482-0339 or (202) 482-2104, respectively.

SUPPLEMENTARY INFORMATION:

Background

On November 1, 2023, Commerce published the notice of initiation of the fourth sunset review of the Orders ¹ on rebar from Belarus, China, Indonesia, Latvia, Moldova, Poland, and Ukraine, pursuant to section 751(c) of the Tariff Act of 1930, as amended (the Act).² On November 15, 2023, Commerce received a notice of intent to participate from the Rebar Trade Action Coalition (RTAC), a domestic interested party, within the deadline specified in 19 CFR 351.218(d)(1)(i).³ RTAC claimed interested party status under section 771(9)(F) of the Act, as an association, a majority of whose members is composed of producers of a domestic like product. In addition, each individual member of RTAC claimed interested party status under771(9)(C) of the Act, as a producer of a domestic like product in the United States.

¹ See Antidumping Duty Orders: Steel Concrete Reinforcing Bars from Belarus, Indonesia, Latvia, Moldova, People's Republic of China, Poland, Republic of Korea and Ukraine, 66 FR 46777 (September 7, 2001) (collectively, Orders). On August 9, 2007, Commerce, Commerce revoked the AD order on steel concrete reinforcing bars from Korea. See Steel Concrete Reinforcing Bars from South Korea: Revocation of Antidumping Duty Order, 72 FR 44830 (August 9, 2007).

² See Initiation of Five-Year (Sunset) Reviews, 88 FR 74977 (November 1, 2023).

³ See RTAC's Letter, “Rebar from Belarus, People's Republic of China, Indonesia, Latvia, Moldova, Poland, and Ukraine—Domestic Interested Party's Notice of Intent to Participate,” dated November 15, 2023.

On November 30, 2023, we received a complete substantive response for this review from RTAC within the 30-day deadline specified in 19 CFR 351.218(d)(3)(i).⁴ We received no substantive responses from respondent interested parties, nor was a hearing requested. On December 21, 2023, Commerce notified the U.S. International Trade Commission that it did not receive substantive responses from any respondent interested parties.⁵ As a result, pursuant to section 751(c)(3)(B) of the Act and 19 CFR 351.218(e)(1)(ii)(C)(2), Commerce is conducting an expedited (120-day) sunset review of the Orders on rebar from Belarus, China, Indonesia, Latvia, Moldova, Poland, and Ukraine.

⁴ See RTAC's Letter, “Rebar from Belarus, People's Republic of China, Indonesia, Latvia, Moldova, Poland, and Ukraine—Five-Year (Sunset) Review of Antidumping Duty Order—Domestic Interested Parties' Substantive Response to Notice of Initiation,” dated November 30, 2023.

⁵ See Commerce's Letter, “Sunset Reviews for November 2023,” dated December 21, 2023.

Scope of the Orders

The products covered by the Orders are all steel concrete reinforcing bars sold in straight lengths, currently classifiable in the Harmonized Tariff Schedule of the United States (HTSUS) under item numbers 7214.20.00, 7228.20.8050, 7222.11.0050, 7222.30.0000, 7228.60.6000, 7228.20.1000, or any other tariff item number. Specifically excluded are plain rounds (i.e., non-deformed or smooth bars) and rebar that has been further processed through bending or coating.

HTSUS subheadings are provided for convenience and customs purposes. The written description of the scope of the order is dispositive.

Analysis of Comments Received

All issues raised in this review, including the likelihood of continuation or recurrence of dumping in the event of revocation and the magnitude of the margins likely to prevail if the Orders were revoked, are addressed in the accompanying Issues and Decision Memorandum.⁶ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. A complete version of the Issues and Decision Memorandum can be accessed directly on the internet at https://access.trade.gov/public/FRNoticesListLayout.aspx.

⁶ See Memorandum, “Issues and Decision Memorandum for the Final Results of the Expedited Fourth Sunset Reviews of the Antidumping Duty Orders on Steel Concrete Reinforcing Bars from Belarus, the People's Republic of China, Indonesia, Latvia, Moldova, Poland, and Ukraine,” dated concurrently with, and hereby adopted by, this notice (Issues and Decision Memorandum).

Final Results of Expedited Sunset Reviews

Pursuant to sections 751(c)(1) and 752(c)(1) and (3) of the Act, Commerce determines that revocation of the Orders would be likely to lead to continuation or recurrence of dumping, and that the magnitude of the dumping margins likely to prevail would be weighted-average dumping margins up to 114.53 percent for Belarus, 133.00 percent for China, 71.01 for Indonesia, 16.99 percent for Latvia, 232.86 percent for Moldova, 52.07 percent for Poland, and 41.69 percent for Ukraine.

Administrative Protective Order

This notice serves as the only reminder to interested parties subject to an administrative protective order (APO) of their responsibility concerning the return or destruction of proprietary information disclosed under APO in accordance with 19 CFR 351.305. Timely notification of the return or destruction of APO materials or conversion to judicial protective order is hereby requested. Failure to comply with the regulations and terms of an APO is a violation subject to sanction.

Notification to Interested Parties

We are issuing and publishing these results in accordance with sections 751(c), 752(c), and 777(i)(1) of the Act, and 19 CFR 351.218.

Dated: February 29, 2024.
Ryan Majerus,
Deputy Assistant Secretary for Policy and Negotiations, performing the non-exclusive functions and duties of the Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins Likely to Prevail

VII. Final Results of Sunset Reviews

VIII. Recommendation

[FR Doc. 2024-04822 Filed 3-6-24; 8:45 am]

BILLING CODE 3510-DS-P